DEPARTMENT OF AGRICULTURE

National Agricultural Statistics Service

Notice of Invitation for Nominations to the Advisory Committee on Agriculture Statistics

AGENCY: National Agricultural Statistics Service (NASS), USDA.

ACTION: Solicitation of nominations to the Advisory Committee on Agriculture Statistics.

SUMMARY: In accordance with the Federal Advisory Committee Act, this notice announces an invitation from the Office of the Secretary of Agriculture for nominations to the Advisory Committee on Agriculture Statistics. On September 22, 2021, the Secretary of Agriculture renewed the Advisory Committee charter for a two-year term to expire on September 21, 2023. The purpose of the Committee is to advise the Secretary of Agriculture on the scope, timing, content, etc., of the periodic censuses and surveys of agriculture, other related surveys, and the types of information to obtain from respondents concerning agriculture. The Committee also prepares recommendations regarding the content of agricultural reports and presents the views and needs for data of major suppliers and users of agricultural statistics.

DATES: The nomination period for interested candidates will close 30 days after publication of this notice.

ADDRESSES: You may submit nominations by any of the following methods:

• Email: Scan the completed form and email to: HQOA@nass.usda.gov.

• eFax: 855-493-0445.

• Mail: Nominations should be mailed to Kevin Barnes, Associate Administrator, National Agricultural Statistics Service, U.S. Department of Agriculture, 1400 Independence Avenue SW, Room 5041 South Building, Washington, DC 20250-2010.

• Hand Delivery/Courier: Hand deliver to: Kevin Barnes, Associate Administrator, National Agricultural Statistics Service, U.S. Department of Agriculture, 1400 Independence Avenue SW, Room 5041 South Building, Washington, DC 20250-2010.

FOR FURTHER INFORMATION CONTACT: Kevin Barnes, Associate Administrator, National Agricultural Statistics Service, (202) 720-4333.

SUPPLEMENTARY INFORMATION: Each person nominated to serve on the committee is required to submit the following form: AD-755 (Advisory Committee Membership Background Information, OMB Number 0505-0001), available on the internet at https://www.usda.gov/sites/default/files/documents/ad-755.pdf. This form may also be requested by telephone, fax, or email using the information above. Completed forms may be faxed to the number above, mailed, or completed and emailed directly from the internet site. For more information on the Advisory Committee on Agriculture Statistics, see the NASS website at https://www.nass.usda.gov/About_NASS/Advisory_Committee_on_Agriculture_Statistics/index.php. The Committee draws on the experience and expertise of its members to form a collective judgment concerning agriculture data collected and the statistics issued by NASS. This input is vital to keep current with shifting data needs in the rapidly changing agricultural environment and keeps NASS informed of emerging issues in the agriculture community that can affect agricultural statistics activities.

The Committee, appointed by the Secretary of Agriculture, consists of 22 members representing a broad range of disciplines and interests, including, but not limited to, producers, representatives of national farm organizations, agricultural economists, rural sociologists, farm policy analysts, educators, State agriculture representatives, and agriculture-related business and marketing experts.

Members serve staggered 2-year terms, with terms for half of the Committee members expiring in any given year. Nominations are being sought for 22 open Committee seats. Members can serve up to 3 terms for a total of 6 consecutive years. The Chairperson of the Committee shall be elected by members to serve a 1-year term.

Equal opportunity practices, in line with USDA policies, will be followed in all membership appointments to the Committee. To ensure that the recommendations of the Committee have taken into account the needs of the diverse groups served by USDA, membership will include to the extent possible, individuals with demonstrated ability to represent the needs of all racial and ethnic groups, women and men, and persons with disabilities.

The duties of the Committee are solely advisory. The Committee will make recommendations to the Secretary of Agriculture with regards to the agricultural statistics programs of NASS, and such other matters as it may deem advisable, or which the Secretary of Agriculture; Under Secretary for Research, Education, and Economics; or the Administrator of NASS may request. The Committee will meet at least annually. All meetings are open to the public. Committee members are reimbursed for official travel expenses only.

Send questions, comments, and requests for additional information to the email address, fax number, or address listed above.

Signed at Washington, DC, October 24, 2022.
Kevin Barnes,
Associate Administrator, National Agricultural Statistics Service.

[FR Doc. 2022-24318 Filed 11-7-22; 8:45 am]

BILLING CODE P